DEPARTMENT OF COMMERCE

International Trade Administration

[A-570-868]

Folding Metal Tables and Chairs From the People's Republic of China: Initiation of New Shipper Review

AGENCY: Import Administration, International Trade Administration, Department of Commerce.

DATES: Effective Date: July 29, 2010.

SUMMARY: The Department of Commerce (the “Department”) has determined that a request for a new shipper review of the antidumping duty order on folding metal tables and chairs (“FMTCs”) from the People's Republic of China (“PRC”), received on June 30, 2010, meets the statutory and regulatory requirements for initiation. The period of review (“POR”) of this new shipper review is June 1, 2009, through May 31, 2010.

FOR FURTHER INFORMATION CONTACT: Lilit Astvatsatrian, Erin Kearney, or Charles Riggle, AD/CVD Operations, Office 8, Import Administration, International Trade Administration, U.S. Department of Commerce, 14th Street and Constitution Avenue, NW., Washington, DC 20230; telephone: (202) 482-6412, (202) 482-0167, and (202) 482-0650, respectively.

SUPPLEMENTARY INFORMATION:

Background

The notice announcing the antidumping duty order on FMTCs from the PRC was published in the Federal Register on June 27, 2002. See Antidumping Duty Order: Folding Metal Tables and Chairs From the People's Republic of China, 67 FR 43277 (June 27, 2002). On June 30, 2010, we received a timely request for a new shipper review from Xinjiamei Furniture (Zhangzhou) Co., Ltd. (“Xinjiamei”) in accordance with 19 CFR 351.214(c) and 351.214(d). Xinjiamei has certified that it produced all of the FMTCs it exported, which is the basis for its request for a new shipper review.

Pursuant to the requirements set forth in 19 CFR 351.214(b)(2)(i)(d), 19 CFR 351.214(b)(2)(ii) and 19 CFR 351.214(b)2(iii), in its request for a new shipper review, Xinjiamei, as an exporter and producer, certified that: (1) It did not export FMTCs to the United States during the period of investigation (“POI”); (2) since the initiation of the investigation, Xinjiamei has never been affiliated with any company that exported subject merchandise to the United States during the period of investigation (“POI”); and (3) its export activities were not controlled by the central government of the PRC.

In accordance with 19 CFR 351.214(b)(2)(iv), Xinjiamei submitted documentation establishing the following: (1) The date on which it first shipped FMTCs for export to the United States and the date on which the FMTCs were first entered, or withdrawn from warehouse, for consumption; (2) the volume of its first shipment; and (3) the date of its first sale to an unaffiliated customer in the United States.

Initiation of New Shipper Review

Pursuant to section 751(a)(2)(B) of the Tariff Act of 1930, as amended (the “Act”) and 19 CFR 351.214(d)(1), we find that the request submitted by Xinjiamei meets the threshold requirements for initiation of a new shipper review for shipments of FMTCs from the PRC produced and exported by Xinjiamei. See Memorandum to the File through Wendy Frankel, Office Director, New Shipper Initiation Checklist, dated concurrently with this notice. However, if the information supplied by Xinjiamei is later found to be incorrect or insufficient during the course of this proceeding, the Department may rescind the review or apply adverse facts available, depending upon the facts on record. The POR is June 1, 2009, through May 31, 2010. See 19 CFR 351.214(g)(1)(i)(A). The Department will conduct this review according to the deadlines set forth in section 751(a)(2)(B)(iv) of the Act.

It is the Department's usual practice, in cases involving non-market economies (“NMEs), to require that a company seeking to establish eligibility for an antidumping duty rate separate from the country-wide rate provide evidence of de jure and de facto absence of government control over the company's export activities. Accordingly, we will issue questionnaires to Xinjiamei, which will include separate rate sections. The review will proceed if the response provides sufficient indication that Xinjiamei is not subject to either de jure or de facto government control with respect to its export of FMTCs.

We will instruct U.S. Customs and Border Protection to allow, at the option of the importer, the posting, until the completion of the review, of a bond or security in lieu of a cash deposit for each entry of the subject merchandise from Xinjiamei in accordance with section 751(a)(2)(B)(iii) of the Act and 19 CFR 351.214(e). Because Xinjiamei certified that it both produced and exported the subject merchandise, the sale of which is the basis for this new shipper review request, we will apply the bonding privilege to Xinjiamei only for subject merchandise which Xinjiamei both produced and exported.

Interested parties requiring access to proprietary information in this new shipper review should submit applications for disclosure under administrative protective order in accordance with 19 CFR 351.305 and 19 CFR 351.306.

This initiation and notice are in accordance with section 751(a)(2)(B) of the Act and 19 CFR 351.214 and 19 CFR 351.221(c)(1)(i).

Dated: July 23, 2010.
Ronald K. Lorentzen,
Deputy Assistant Secretary for Import Administration.

[FR Doc. 2010-18683 Filed 7-28-10; 8:45 am]

BILLING CODE 3510-DS-P